DEPARTMENT OF ENERGY

Federal Energy Regulatory Commission

[Docket Nos. CP18-102-000; CP18-103-000]

Cheyenne Connector, LLC, Rockies Express Pipeline LLC; Notice of Reopening of Comment Period

On December 18, 2018, the Commission issued a Notice of Availability (December 18 Notice) setting January 17, 2019, as the end of the formal period to file comments on the environmental assessment issued for the Cheyenne Connector Pipeline and Cheyenne Hub Enhancement Projects. Due to the funding lapse at certain federal agencies between December 22, 2018 and January 25, 2019, and due to a printing error with the December 18 Notice, the Commission is reopening the comment period until March 5, 2019. A complete copy of the December 18 Notice is attached, which contains instructions on how to submit comments.

Dated: February 7, 2019.
Kimberly D. Bose,
Secretary.

[FR Doc. 2019-02143 Filed 2-12-19; 8:45 am]

BILLING CODE 6717-01-P